BROADCASTING BOARD OF GOVERNORS

Proposed New Collection; Comment Request

AGENCY: The Broadcasting Board of Governors.

ACTION: Proposed New Collection; Comment Request.

SUMMARY: The Broadcasting Board of Governors (BBG), as part of its continuing effort to reduce paperwork and respondent burden, invites the general public and other Federal agencies to comment on an information collection titled, “Personal Identity Verification (PIV) Request for BBG Credential.” This request for comment is being made pursuant to the Paperwork Reduction Act of 1995 [Pub. L. 104-13; 44 U.S.C. 3506(c)(2)(A)].

The information collection activity involved with this program is conducted pursuant to Homeland Security Presidential Directive (HSPD) 12, Federal Information Processing Standards (FIPS) 201, and Office of Management and Budget (OMB) Implementation Directive M-05-24, which directs and provides guidance to all Federal agencies to meet the Personal Identity Verification (PIV) requirements.

DATES: Comments must be submitted on or before February 17, 2009.

Copies/For Further Information Contact: Copies of this information collection proposal that will be submitted to OMB for approval may be obtained by calling or writing Ms. Jeannette Mancus, BBG Clearance Officer, BBG, IBB/A, Room 1274, 330 Independence Avenue, SW., Washington, DC 20237, telephone (202) 203-4664, or via e-mail address JGMancus@BBG.GOV.

SUPPLEMENTARY INFORMATION: Public reporting burden for this proposed collection of information is estimated to average 15 minutes (.25 of an hour) per response, including the time for reviewing instructions, searching existing data sources, gathering and maintaining the data needed, and completing and reviewing the collection of information. Responses are voluntary and respondents are required to respond only once. Comments are requested on the proposed information collection concerning:

(a) Whether the proposed collection of information is necessary for the proper performance of the agency, including whether the information has practical utility;

(b) The accuracy of the Agency's burden estimates;

(c) Ways to enhance the quality, utility, and clarity of the information collected; and

(d) Ways to minimize the burden of the collection of information on the respondents, including the use of automated collection techniques or other forms of information technology.

Comments: Send comments regarding this burden estimate or any other aspect of this collection of information to Mr. Alexander T. Hunt, OMB Desk Officer for the BBG, via fax at 202-395-7285, or e-mail at Alexander_T._Hunt@omb.eop; and/or to Ms. Jeannette Mancus, the BBG Clearance Officer, BBG, IBB/A, Room 1657, 330 Independence Avenue, SW., Washington, DC 20237, telephone (202) 203-4664, e-mail address JGMancus@bbg.gov.

Current Actions: BBG is requesting approval of this new collection of information for a three-year period.

Title: Personal Identity Verification (PIV) Request for BBG Credential.

Abstract: Data from this information collection are used by BBG's Office of Security (M/SEC) to determine suitability for the issuance of a BBG credential to contractors employed by the BBG, and to identity proof and register applicants as part of the PIV process, in accordance with HSPD 12, FIPS 201, and OMB Implementation Directive M-05-24.

Proposed Frequency of Responses:

Number of Respondents (Contractors Only) | 2431
Number of Responses per Respondents | 1
Total Responses over Three Year Period | 2431
Hours per Response | .25
Total Hours (Sub-Total) | 608

Dated: December 12, 2008.
Marie E. Lennon,
Chief of Staff, International Broadcasting Bureau (IBB).

[FR Doc. E8-30234 Filed 12-18-08; 8:45 am]

BILLING CODE 8610-01-P